DEPARTMENT OF JUSTICE

Notice of Lodging of Consent Decree Under the Clean Air Act

In accordance with Departmental policy, 28 CFR 50.7, notice is hereby given that on September 20, 2004, a proposed consent decree in United States v. Mississippi Bakery, a division of Aldi, Inc., Civil Action No. 304CV80102 was lodged with the United States District Court for the Southern District of Iowa.

In this action the United States sought civil penalties and injunctive relief with respect to violations of the Clean Air Act, 42 U.S.C. 7401, et. seq. (“CAA”) at defendant's Mississippi Bakery facility located in Burlington, Iowa. This consent decree requires the defendant to pay a civil penalty of $60,000 and to perform injunctive relief to address violations of the industrial refrigerant repair, testing, recordkeeping and reporting regulations at 40 CFR Part 82, Subpart F, §§ 82.152—82.166, promulgated pursuant to Subchapter VI of the CAA, 42 U.S.C. 7671-7671q.

The Department of Justice will receive for a period of thirty (30) days from the date of this publication comments relating to the consent decree. Comments should be addressed to the Assistant Attorney General, Environment and Natural Resources Division, P.O. Box 7611, U.S. Department of Justice, Washington, DC 20044-7611, and should refer to United States v. Mississippi Bakery, a division of Aldi, Inc., D.J. Ref. 90-5-2-08100.

The consent decree may be examined at the Office of the United States Attorney, Southern District of Iowa, U.S. Courthouse Annex, Southern District of Iowa, U.S. Courthouse Annex, Suite 286, 110 E. Court Avenue, Des Moines, Iowa 50309, and at U.S. EPA Region 7, 901 No. 5th Street, Kansas City, Kansas 66101. During the public comment period, the consent decree, may also be examined on the following Department of Justice Web site, http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax No. (202) 514-0097, phone confirmation number (202) 514-1547. In requesting a copy from the Consent Decree Library, please enclose a check in the amount of $3.75 (25 cents per page reproduction cost) payable to the U.S. Treasury.

Catherine R. McCabe,
Deputy Chief, Environmental Enforcement Section, Environment and Natural Resources Division.

[FR Doc. 04-23102 Filed 10-13-04; 8:45 am]

BILLING CODE 4410-15-M